DEPARTMENT OF DEFENSE

[USN-2006-0031]

United States Marine Corps; Privacy Act of 1974; System of Records

AGENCY: United States Marine Corps, DoD.

ACTION: Notice to delete a records system.

SUMMARY: The U.S. Marine Corps is deleting one system of records notice from its inventory of records systems subject to the Privacy Act of 1974, as amended (5 U.S.C. 552a).

DATES: Effective June 14, 2006.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records system notices for records systems subject to the Privacy Act of 1974 (5 U.S.C. 552a), as amended have been published in the Federal Register and are available from the address above.

The U.S. Marine Corps proposes to delete a system of records notice from its inventory of record systems subject to the Privacy Act of 1974 (5 U.S.C. 552a), as amended. The changes to the system of records are not within the purview of subsection (r) of the Privacy Act of 1974 (5 U.S.C. 552a), as amended, which requires the submission of new or altered systems reports.

Dated: June 7, 2006.
C.R. Choate,
Alternate OSD Federal Register Liaison Officer, Department of Defense.

MFD00007

System name:

Marine Corps Financial Records System (February 22, 1993, 58 FR 10630).

Reason:

The records are contained in systems of records that are maintained by the Defense Finance and Accounting Service (DFAS), and the Department of the Navy as follows:

T7332, Defense Debt Management System (June 27, 2002, 67 FR 43292).

T5500b, Garnishment Processing Files (August 24, 2005, 70 FR 49589).

MFD00003, Marine Corps Total Force System (MCTFS) (September 9, 1996, 61 FR 47503.

[FR Doc. 06-5400 Filed 6-13-06; 8:45 am]

BILLING CODE 5001-06-M